DEPARTMENT OF COMMERCE

International Trade Administration

[A-533-810]

Stainless Steel Bar From India: Initiation of Antidumping Duty New Shipper Review

AGENCY: Enforcement and Compliance, International Trade Administration, Department of Commerce.

SUMMARY: The U.S. Department of Commerce (Commerce) has determined that a request for a new shipper review (NSR) of the antidumping duty order on stainless steel bars from India meets the statutory and regulatory requirements for initiation. The period of review (POR) for the NSR is February 1, 2023, through July 31, 2023.

DATES: Applicable October 5, 2023.

FOR FURTHER INFORMATION CONTACT: Joshua Weiner, AD/CVD Operations, Office I, Enforcement and Compliance, International Trade Administration, U.S. Department of Commerce, 1401 Constitution Avenue NW, Washington, DC 20230; telephone: (202) 482-3902.

SUPPLEMENTARY INFORMATION:

Background

Commerce published the antidumping duty order on stainless steel bars from India on February 21, 1995.¹ On August 31, 2023, pursuant to section 751(a)(2)(B)(i) of the Tariff Act of 1930, as amended (the Act), and 19 CFR 351.214(c), Commerce received a timely NSR request from Welspun Specialty Solutions Ltd. (Welspun).²

¹ See Antidumping Duty Orders: Stainless Steel Bar from Brazil, India and Japan, 60 FR 9661 (February 21, 1995) (Order).

² See Welspun's Letter, “Request for New Shipper Review,” dated August 31, 2023 (NSR Request).

In its submission, Welspun certified that it is the producer and exporter of the subject merchandise subject to this request for an NSR.³ Pursuant to section 751(a)(2)(B)(i)(I) of the Act and 19 CFR 351.214(b)(2)(i), Welspun certified that it did not export stainless steel bars to the United States during the period of investigation (POI).⁴ Additionally, pursuant to section 751(a)(2)(B)(i)(II) of the Act and 19 CFR 351.214(b)(2)(iii)(A), Welspun certified that, since the initiation of the investigation, it has not been affiliated with any producer or exporter that exported stainless steel bars to the United States during the POI, including those not individually examined during the investigation.⁵

³ See NSR Request at Exhibit NSR-1.

⁴ Id.

⁵ Id.

In its submission, pursuant to 19 CFR 351.214(b)(2)(iv), Welspun certified that it would provide necessary information related to the unaffiliated customer in the United States during the NSR. Welspun also provided a certification by its unaffiliated customer of its willingness to participate in the NSR.⁶

⁶ Id. at Exhibit NSR-2

In addition to the certifications described above, pursuant to 19 CFR 351.214(b)(2)(v), Welspun submitted documentation establishing the following: (1) the date on which the subject merchandise was first entered, or withdrawn from warehouse, for consumption; (2) the volume of its first shipment and any subsequent shipments, including whether such shipments were made in commercial quantities; and (3) the date of its first sale and any subsequent sales to an unaffiliated customer in the United States.⁷

⁷ See NSR Request at Exhibits C and D; see also Welspun's Letter, “Response to Supplemental Questionnaire,” dated September 29, 2023.

As explained in the Initiation Checklist,⁸ Commerce conducted a query of U.S. Customs and Border Protection (CBP) data which confirmed that subject merchandise entered the United States for consumption and that liquidation of such entries had been properly suspended for antidumping duties.⁹ The CBP data examined by Commerce is consistent with information provided by Welspun in its NSR Request. In particular, the CBP data confirm the price and quantity reported by Welspun for the Type 3 sales that form the basis of its NSR Request.

⁸ See Memorandum, “New Shipper Initiation Checklist,” dated concurrently with this notice (Initiation Checklist).

⁹ See Memorandum, “Placement of Welspun CBP Data Query Results on the Record” dated concurrently with this notice (CBP Release Memo).

Period of Review

In accordance with 19 CFR 351.214(g)(1)(i)(B), the POR for an NSR initiated in the month immediately following the semiannual anniversary month will be the six-month period immediately preceding the semiannual anniversary month. Therefore, the POR for this NSR is February 1, 2023, through July 31, 2023.

Initiation of NSR

Pursuant to section 751(a)(2)(B) of the Act and 19 CFR 351.214(b), and based on the information on the record, we find that Welspun's NSR request meets the threshold requirements for initiation of an NSR of its shipments of stainless steel bars to the United States.¹⁰ However, if the information supplied by Welspun is later found to be incorrect or insufficient during the course of this NSR, Commerce may rescind the review or apply adverse facts available, pursuant to section 776 of the Act, as appropriate. Pursuant to 19 CFR 351.221(c)(1)(i), Commerce will publish the notice of initiation of an NSR no later than the last day of the month following the anniversary or semiannual anniversary month of the Order. Commerce intends to issue the preliminary results of this review no later than 180 days from the date of initiation, and the final results of this review no later than 90 days after the date the preliminary results are issued.¹¹

¹⁰ See, generally, NSR Request.

¹¹ See section 751(a)(2)(B)(iii) of the Act.

We intend to conduct this NSR in accordance with section 751(a)(2)(B) of the Act.¹²

¹² The Act was amended by the Trade Facilitation and Trade Enforcement Act of 2015, which removed from section 751(a)(2)(B) of the Act the provision directing Commerce to instruct CBP to allow an importer the option of posting a bond or security in lieu of a cash deposit during the pendency of an NSR. This was also codified in Commerce's regulations at 19 CFR 351.214(e).

Because Welspun certified that it exported subject merchandise, the sale of which is the basis for its NSR request, Commerce will instruct CBP to suspend or continue to suspend liquidation of all entries of subject merchandise produced and exported by Welspun. To assist in its analysis of the bona fide nature of Welspun's sale(s), upon initiation of this NSR, Commerce will require Welspun to submit, on an ongoing basis, complete transaction information concerning any sales of subject merchandise to the United States that were made subsequent to the POR.

Interested parties requiring access to proprietary information in this NSR should submit applications for disclosure under administrative protective order in accordance with 19 CFR 351.305 and 351.306.

This initiation notice is published in accordance with section 751(a)(2)(B) of the Act and 19 CFR 351.214 and 351.221(c)(1)(i).

Dated: September 29, 2023.
James Maeder,
Deputy Assistant Secretary for Antidumping and Countervailing Duty Operations.

[FR Doc. 2023-22134 Filed 10-4-23; 8:45 am]

BILLING CODE 3510-DS-P